DEPARTMENT OF DEFENSE

GENERAL SERVICES ADMINISTRATION

NATIONAL AERONAUTICS AND SPACE ADMINISTRATION

48 CFR Parts 2, 4, 6, 7, 8, 12, 13, 22, 28, 36, 37, 39, 41, 47, and 52

[FAC 2005-06; FAR Case 2005-010; Item III]

RIN 9000-AK27

Federal Acquisition Regulation; Title 40 of United States Code Reference Corrections

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to reflect the most recent codification of Title 40 of the United States Code.

DATES: Effective Date: September 30, 2005.

FOR FURTHER INFORMATION CONTACT The FAR Secretariat at (202) 501-4755 for information pertaining to status or publication schedules. For clarification of content, contact Mr. Gerald Zaffos, Procurement Analyst, at (202) 208-6091. Please cite FAC 2005-06, FAR case 2005-010.

SUPPLEMENTARY INFORMATION:

A. Background

Congress recently codified Title 40 of the United States Code. As a result, all sections of Title 40 were renumbered. This rule corrects the references to Title 40 in the FAR.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Parts 2, 4, 6, 7, 8, 12, 13, 22, 28, 36, 37, 39, 41, 47, and 52 in accordance with 5 U.S.C. 610. Interested parties must submit such comments separately and should cite 5 U.S.C. 601, et seq. (FAC 2005-06, FAR case 2005-010), in correspondence.

C. Paperwork Reduction Act

The Paperwork Reduction Act does not apply because the changes to the FAR do not impose information collection requirements that require the approval of the Office of Management and Budget under 44 U.S.C. 3501, et seq.

List of Subjects in 48 CFR Parts 2, 4, 6, 7, 8, 12, 13, 22, 28, 36, 37, 39, 41, 47, and 52

Government procurement.

Dated: September 22, 2005.
Julia B. Wise,
Director, Contract Policy Division.

Therefore, DoD, GSA, and NASA amend 48 CFR parts 2, 4, 6, 7, 8, 12, 13, 22, 28, 36, 37, 39, 41, 47, and 52 as set forth below:

1. The authority citation for 48 CFR parts 2, 4, 6, 7, 8, 12, 13, 22, 28, 36, 37, 39, 41, 47, and 52 continues to read as follows:

Authority: 40 U.S.C. 121(c); 10 U.S.C. chapter 137; and 42 U.S.C. 2473(c).

PART 2—DEFINITIONS OF WORDS AND TERMS

2. Amend section 2.101 in paragraph (b) by revising paragraph (1) and the first sentence of paragraph (2) of the definition “Governmentwide acquisition contract (GWAC)”, and the second sentence of the definition “Multi-agency contract (MAC)” to read as follows:

2.101 Definitions.

* * * * *

(b) * * *

Governmentwide acquisition contract (GWAC) * * *

(1) By an executive agent designated by the Office of Management and Budget pursuant to 40 U.S.C. 11302(e); or

(2) Under a delegation of procurement authority issued by the General Services Administration (GSA) prior to August 7, 1996, under authority granted GSA by former section 40 U.S.C. 759, repealed by Pub. L. 104-106. * * *

* * * * *

Multi-agency contract (MAC) * * * Multi-agency contracts include contracts for information technology established pursuant to 40 U.S.C. 11314(a)(2).

* * * * *

PART 4—ADMINISTRATIVE MATTERS

3. Amend section 4.702 by revising the second sentence in paragraph (b) to read as follows:

4.702 Applicability.

* * * * *

(b) * * * Apart from this exception, this subpart applies to record retention periods under contracts that are subject to Chapter 137, Title 10, U.S.C., or 40 U.S.C. 101, et seq.

PART 6—COMPETITION REQUIREMENTS

6.102 [Amended]

4. Amend section 6.102 in paragraph (d)(1) by removing “Pub. L. 92-582 (40 U.S.C. 541 et seq.)” and adding “40 U.S.C. 1102 et seq.” in its place.

PART 7—ACQUISITION PLANNING

7.103 [Amended]

5. Amend section 7.103 in paragraph (t) by removing “40 U.S.C. 1422” and adding “40 U.S.C. 11312” in its place.

7.105 [Amended]

6. Amend section 7.105 in paragraph (b)(4)(ii)(A) by removing “40 U.S.C. 1422” and adding “40 U.S.C. 11312” in its place.

PART 8—REQUIRED SOURCES OF SUPPLIES AND SERVICES

8.001 [Amended]

7. Amend section 8.001 by removing “40 U.S.C. 1422” and adding “40 U.S.C. 11312” in its place.

PART 12—ACQUISITION OF COMMERCIAL ITEMS

12.503 [Amended]

8. Amend section 12.503 in paragraph (b)(1) by removing “40 U.S.C. 327” and adding “40 U.S.C. 3701” in its place.

12.504 [Amended]

9. Amend section 12.504 in paragraph (b) by removing “40 U.S.C. 327, et seq.,” and adding “40 U.S.C. 3701 et seq.,” in its place.

PART 13—SIMPLIFIED ACQUISITION PROCEDURES

13.005 [Amended]

10. Amend section 13.005 by—

a. Removing from paragraph (a)(2) “40 U.S.C. 270a” and adding “40 U.S.C. 3131” in its place; and

b. Removing from paragraph (a)(3) “40 U.S.C. 327-333” and adding “40 U.S.C. 3701 et seq.” in its place.

PART 22—APPLICATION OF LABOR LAWS TO GOVERNMENT ACQUISITIONS

22.300 [Amended]

11. Amend section 22.300 by removing “(40 U.S.C. 327-333)” and adding “(40 U.S.C. 3701 et seq.)” in its place.

22.304 [Amended]

12. Amend section 22.304 in paragraph (a) by removing “40 U.S.C. 331” and adding “40 U.S.C. 3706” in its place.

22.403-1 [Amended]

13. Amend section 22.403-1 by removing “(40 U.S.C. 276a-276a-7)” and adding “(40 U.S.C. 3141 et seq.)” in its place.

22.403—2 [Amended]

14. Amend section 22.403-2 by removing from the first sentence “40 U.S.C. 276c” and adding “40 U.S.C. 3145” in its place.

22.403—3 [Amended]

15. Amend section 22.403-3 by removing “(40 U.S.C. 327-333)” and adding “(40 U.S.C. 3701 et seq.)” in its place.

PART 28—BONDS AND INSURANCE

28.102—1 [Amended]

16. Amend section 28.102-1 by—

a. Removing from the introductory text of paragraph (a) “(40 U.S.C. 270a-270f)” and adding “(40 U.S.C. 3131 et seq.)” in its place; and

b. Removing from the introductory text of paragraph (b)(1) “Section 4104(b)(2) of the Federal Acquisition Streamlining Act of 1994 (Public Law 103-355),” and adding “40 U.S.C. 3132,” in its place.

28.106—6 [Amended]

17. Amend section 28.106-6 at the end of paragraph (c) by removing “(see 40 U.S.C. 270(c))” and adding “(see 40 U.S.C. 3133)” in its place.

PART 36—CONSTRUCTION AND ARCHITECT-ENGINEER CONTRACTS

36.104 [Amended]

18. Amend section 36.104 by removing from the first sentence “(40 U.S.C. 541, et seq.)” and adding “(40 U.S.C. 1101 et seq.)” in its place.

19. Amend section 36.601-1 by revising the parenthetical sentence at the end of the paragraph to read as follows:

36.601-1 Public announcement

.

* * * (See 40 U.S.C. 1101 et seq.

PART 37—SERVICE CONTRACTING

37.102 [Amended]

20. Amend section 37.102 in paragraph (a)(1)(i) by removing “40 U.S.C. 541-544” and adding “40 U.S.C. 1101 et seq.” in its place.

37.202 [Amended

]

21. Amend section 37.202 in paragraph (b) by removing “(Section 901 of the Federal Property and Administrative Services Act of 1949, 40 U.S.C. 541).” and adding “(40 U.S.C. 1102).” in its place.

37.301 [Amended]

22. Amend section 37.301 in the first sentence by removing “(40 U.S.C. 276a-276a-7)” and adding “(40 U.S.C. 3141 et seq.)” in its place.

37.302 [Amended]

23. Amend section 37.302 in the introductory text by removing “(40 U.S.C. 270a-270f)” and adding “(40 U.S.C. 3131 et seq.)” in its place.

PART 39—ACQUISTION OF INFORMATION TECHNOLOGY

39.001 [Amended]

24. Amend section 39.001 in the second sentence by removing “40 U.S.C. 1412” and adding “40 U.S.C. 11302” in its place.

PART 41—ACQUISTION OF UTILITY SERVICES

41.103 [Amended]

25. Amend section 41.103 by—

a. Removing from paragraph (a)(1) in the first sentence “section 201 of the Federal Property and Administrative Services Act of 1949, as amended (40 U.S.C. 481),” and from the third sentence “section 201 of the Act” and adding “40 U.S.C. 501” in both places; and

b. Removing from paragraph (a)(2) “40 U.S.C. 474(d)(3)” and adding “40 U.S.C. 113(e)(3)” in its place.

PART 47—TRANSPORTATION

47.102 [Amended]

26. Amend section 47.102 in paragraph (a)(2) by removing “(40 U.S.C. 726)” and adding “(40 U.S.C. 17307)” in its place.

PART 52—SOLICITATION PROVISIONS AND CONTRACT CLAUSES

52.212-4 [Amended]

27. Amend section 52.212-4 by—

a. Revising the date of the clause to read “(SEP 2005)”; and

b. Removing from paragraph (r) of the clause “40 U.S.C. 327” and adding “40 U.S.C. 3701” in its place.

52.228-15 [Amended]

28. Amend section 52.228-15 by—

a. Revising the date of the clause to read “(SEP 2005)”; and

b. Removing from the heading of paragraph (e) of the clause “(40 U.S.C. 270b(c)”; and adding “(40 U.S.C. 3133(c))” in its place.

52.232-27 [Amended]

29. Amend section 52.232-27 by—

a. Revising the date of the clause to read “(SEP 2005)”; and

b. Removing from the introductory text of paragraph (f)(1) of the clause “section 2 of the Act of August 24, 1935 (40 U.S.C. 270b, Miller Act),” and adding “the Miller Act (40 U.S.C. 3133),” in its place.

[FR Doc. 05-19470 Filed 9-29-05; 8:45 am]

BILLING CODE 6820-EP-S